DEPARTMENT OF THE INTERIOR

Bureau of Land Management

[WY-100-1310-DB]

Notice of Availability of the Record of Decision for the Supplemental Environmental Impact Statement for the Pinedale Anticline Oil and Gas Exploration and Development Project

AGENCY: Bureau of Land Management, Interior.

ACTION: Notice of availability.

SUMMARY: The Bureau of Land Management (BLM) announces the availability of the Record of Decision (ROD) for the Supplemental Environmental Impact Statement (SEIS) for the Pinedale Anticline Oil and Gas Exploration and Development Project located in Sublette County, Wyoming. C. Stephen Allred, Assistant Secretary of the United States Department of the Interior signed the ROD on September 12, 2008, which constitutes the final decision of the BLM and makes the decisions effective immediately.

ADDRESSES: Copies of the ROD are available electronically on the following Web site: http://www.blm.gov/wy/st/en/info/NEPA/pfodocs/anticline/seis.html. Copies of the ROD are available for public inspection at the following BLM office locations:

• Bureau of Land Management, Wyoming State Office, 5353 Yellowstone Road, Cheyenne, Wyoming 82003.

• Bureau of Land Management, Pinedale Field Office, 1625 West Pine Street, Pinedale, Wyoming 82941.

FOR FURTHER INFORMATION CONTACT: Chuck Otto, Pinedale Field Manager, 1625 West Pine Street, Pinedale, Wyoming 82941. Mr. Otto may be contacted by telephone at (307) 367-5300.

SUPPLEMENTARY INFORMATION: A copy of the ROD has been made available to affected Federal, State, and local government agencies and interested parties. This ROD addresses approximately 198,000 acres of land. Nearly 80 percent administered by the BLM Pinedale Field Office, Sublette County, Wyoming. Approximately 83 percent of the mineral estate underlying the Pinedale Anticline Project Area is federally owned.

Issues that were analyzed in the SEIS include direct, indirect and cumulative impacts of the project on big game, sage grouse, raptors, migratory birds and their habitat. Impacts to ground and surface water, air quality (both visibility and ozone), and socio-economic effects of the project on State and local governments were also analyzed. Decisions in the SEIS ROD approve the concentrated phased development of the oil and gas resource, while providing protection and mitigation for wildlife, air, water and other project related impacts, including a monitoring and mitigation fund.

The SEIS ROD resulted from a collaborative process that included the State of Wyoming, the Environmental Protection Agency, county and municipal governments, tribal governments, and other Federal agencies. Public comments from many individuals and organizations were also considered in the Draft and Final SEIS and contributed to the decisions in the ROD.

The Notice of Intent to prepare a SEIS for the Pinedale Anticline Oil and Gas Exploration and Development Project was published in the Federal Register on October 21, 2005. A Notice of Availability (NOA) for the Draft SEIS was published on December 15, 2006. Based on public comments, the BLM determined that two additional alternatives needed to be analyzed and made available for public review. A NOA for a Revised Draft SEIS was published on December 28, 2007. The public comment period on the Revised Draft SEIS closed February 11, 2008.

Donald A. Simpson,
Acting State Director.

[FR Doc. E8-21627 Filed 9-16-08; 8:45 am]

BILLING CODE 4310-22-P